DEPARTMENT OF THE INTERIOR

Office of the Secretary

[Docket No. ONRR-2012-0003; DS63600000 DR2000000.PMN000 178D0102R2]

Royalty Policy Committee Establishment; Request for Nominations

AGENCY: Office of Natural Resources Revenue, Interior.

ACTION: Notice.

SUMMARY: The U.S. Department of the Interior (DOI) is establishing and seeking nominations for the Royalty Policy Committee (Committee). The Committee will provide advice to the Secretary on the fair market value of, and the collection of revenues derived from, the development of energy and mineral resources on Federal and Indian lands.

DATES: Comments regarding the establishment of this Committee must be submitted no later than April 18, 2017. Nominations for the Committee must be submitted by May 3, 2017.

ADDRESSES: You may submit comments and/or nominations by any of the following methods:

• Mail or hand-carry nominations to Ms. Kim Oliver, Department of the Interior, Office of Natural Resources Revenue, 1849 C Street NW., MS 5134, Washington, DC 20240; or

• Email nominations to: Kimiko.oliver@onrr.gov.

FOR FURTHER INFORMATION CONTACT: Ms. Judy Wilson, Office of Natural Resources Revenue; telephone (202) 208-4410; email: judith.wilson@onrr.gov.

SUPPLEMENTARY INFORMATION: The Committee is established under the authority of the Secretary of the Interior (Secretary) and regulated by the Federal Advisory Committee Act (FACA), as amended (5 U.S.C. Appendix 2). The Secretary seeks to ensure that the public receives the full value of the natural resources produced from Federal lands. The duties of the Committee are solely advisory in nature. The Committee will, at the request of the Designated Federal Officer (DFO), advise on current and emerging issues related to the determination of fair market value, and the collection of revenue from energy and mineral resources on Federal and Indian lands. The Committee also will advise on the potential impacts of proposed policies and regulations related to revenue collection from such development, including whether a need exists for regulatory reform.

We are seeking nominations for individuals to be considered as Committee members. The Committee will not exceed 28 members and will be composed of Federal and non-Federal members in order to ensure fair and balanced representation. The Secretary will appoint non-Federal members and their alternates to the Committee to serve up to a three-year term. The Assistant Secretary—Land and Minerals Management and the Director of ONRR, or their designee(s), shall serve as co-Chairs of the Committee.

Federal Members: The Secretary will appoint the following officials as non-voting, ex-officio members of the Committee:

• A representative of the Secretary's Immediate Office

• Assistant Secretary—Indian Affairs

• Director, Bureau of Indian Affairs

• Director, Bureau of Land Management

• Director, Bureau of Ocean Energy Management

• Director, Bureau of Safety and Environmental Enforcement

These officials may designate a senior official to act on their behalf.

Non-Federal Members: The Secretary will appoint members in the following categories:

• Up to six members representing the Governors of States that receive more than $10,000,000 annually in royalty revenues from onshore and offshore Federal leases.

• Up to four members representing the Indian Tribes that are engaged in activities subject to: The Act of May 11, 1938 (commonly known as the “Indian Mineral Leasing Act of 1938”) (25 U.S.C. 396a et seq.); Title XXVI of the Energy Policy Act of 1992 (25 U.S.C. 3501 et seq.); The Indian Mineral Development Act of 1982 (25 U.S.C. 2101 et seq.); and any other law relating to mineral development that is specific to one or more Indian Tribes.

• Up to six members representing various mineral and/or energy stakeholders in Federal and Indian royalty policy.

• Up to four members representing academia and public interest groups.

Nominations should include a resume providing an adequate description of the nominee's qualifications, including information that would enable DOI to make an informed decision regarding meeting the membership requirements of the Committee and to permit DOI to contact a potential member.

The Committee will meet at least once each calendar year and at such other times as the DFO determines to be necessary. Members of the Committee serve without compensation. However, while away from their homes or regular places of business, Committee and subcommittee members engaged in Committee or subcommittee business that the DFO approves may be allowed travel expenses, including per diem in lieu of subsistence, as authorized by 5 U.S.C. 5703, in the same manner as persons employed intermittently in Federal Government service.

Public Disclosure of Comments: Before including your address, phone number, email address, or other personal identifying information in your comment, you should be aware that your entire comment—including your personal identifying information—may be made publicly available at any time. While you can ask us in your comment to withhold your personal identifying information from public review, we cannot guarantee that we will be able to do so.

Certification Statement: I hereby certify that the Royalty Policy Committee is necessary, is in the public interest, and is established under the authority of the Secretary of the Interior, in support of greater transparency in creating royalty and leasing policy for mineral production on Federal and Tribal lands.

Authority: 5 U.S.C. Appendix 2.

Dated: March 29, 2017.
Ryan K. Zinke,
Secretary, Department of the Interior.

[FR Doc. 2017-06542 Filed 3-31-17; 8:45 am]

BILLING CODE 4335-30-P